ENVIRONMENTAL PROTECTION AGENCY

[FRL-7150-3]

Board of Scientific Counselors, Executive Committee Meeting

AGENCY: Environmental Protection Agency (EPA).

ACTION: Notice of teleconference.

SUMMARY: Pursuant to the Federal Advisory Committee Act, Public Law 92-463, as amended (5 U.S.C., App. 2) notification is hereby given that the Environmental Protection Agency, Office of Research and Development (ORD), The Board of Scientific Counselors (BOSC), will hold an Executive Committee Teleconference.

DATES: The teleconference will be held on March 26, 2002.

ADDRESSES: On Tuesday, March 26, 2002, the teleconference will begin at 1 p.m. and will adjourn at 3 p.m. All times noted are Eastern Time.

FOR FURTHER INFORMATION CONTACT: Shirley R. Hamilton, Designated Federal Officer, U.S. Environmental Protection Agency, Office of Research and Development, NCER (MC 8701R), 1200 Pennsylvania Avenue, NW., Washington, DC 20460, (202) 564-6853.

SUPPLEMENTARY INFORMATION: Agenda items to include, but not limited to: Discussion of BOSC Subcommittee Review Reports of ORD Laboratories and Centers. The teleconference is open to the public. Any member of the public wishing to speak on the teleconference should contact Shirley Hamilton, Designated Federal Officer, Office of Research and Development (8701R), 1200 Pennsylvania Avenue, NW., Washington, DC 20460; or telephone at (202) 564-6853. In general each individual making an oral presentation will be limited to a total of three minutes.

Dated: February 14, 2002.
Peter W. Preuss,
Director, National Center for Environmental Research.

[FR Doc. 02-4649 Filed 2-26-02; 8:45 am]

BILLING CODE 6560-50-P